DEPARTMENT OF COMMERCE

International Trade Administration

[A-552-802]

Certain Frozen Warmwater Shrimp From the Socialist Republic of Vietnam: Preliminary Results of Antidumping Duty Administrative Review; 2012-2013

AGENCY: Enforcement and Compliance, formerly Import Administration, International Trade Administration, Department of Commerce.

SUMMARY: In response to requests from interested parties, the Department of Commerce (“Department”) is conducting the administrative review of the antidumping duty order on certain frozen warmwater shrimp from the Socialist Republic of Vietnam (“Vietnam”) for the period of review February 1, 2012, through January 31, 2013. The Department preliminarily determines that sales by the Minh Phu Group,¹ and Stapimex,² the two mandatory respondents, were made below normal value (“NV”). Interested parties are invited to comment on these preliminary results.

¹ Minh Phu Seafood Corporation, Minh Qui Seafood Co., Ltd., Minh Phat Seafood Co., Ltd., and Minh Phu Hau Giang Seafood Co., Ltd. (collectively, the “Minh Phu Group”).

² Soc Trang Seafood Joint Stock Company (“Stapimex”).

DATES: Effective Date: March 24, 2014.

FOR FURTHER INFORMATION CONTACT: Bob Palmer and Irene Gorelik, AD/CVD Operations, Office V, Enforcement and Compliance, International Trade Administration, Department of Commerce, 14th Street and Constitution Avenue NW, Washington, DC 20230; telephone: (202) 482-9068 and (202) 482-6905, respectively.

SUPPLEMENTARY INFORMATION:

Scope of the Order

The merchandise subject to the Order ³ is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Preliminary Decision Memorandum, remains dispositive.⁴

³ See Certain Frozen Warmwater Shrimp From Brazil, India, the People's Republic of China, Thailand, and the Socialist Republic of Vietnam: Amended Antidumping Duty Orders in Accordance with Final Court Decision, 76 FR 23277 (April 26, 2011) (“Order”).

⁴ For a complete description of the Scope of the Order, see Memorandum to Paul Piquado, Assistant Secretary for Enforcement and Compliance, from Christian Marsh, Deputy Assistant Secretary for Antidumping and Countervailing Duty Operations, titled “Decision Memorandum for Preliminary Results of Antidumping Duty Administrative Review: Certain Frozen Warmwater Shrimp From the Socialist Republic of Vietnam; 2012-2013,” dated concurrently with and adopted by this notice (“Preliminary Decision Memorandum”).

Methodology

The Department conducted this review in accordance with section 751(a)(1)(A) of the Tariff Act of 1930, as amended (“the Act”). Constructed export prices and export prices were calculated in accordance with section 772 of the Act. Because Vietnam is a nonmarket economy within the meaning of section 771(18) of the Act, NV was calculated in accordance with section 773(c) of the Act.

For a full description of the methodology underlying our conclusions, see Preliminary Decision Memorandum. The Preliminary Decision Memorandum is a public document and is on file electronically via the Enforcement and Compliance's Antidumping and Countervailing Duty Centralized Electronic Service System (“IA ACCESS”). IA ACCESS is available to registered users at http://iaaccess.trade.gov and in the Central Records Unit, Room 7046 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

The Department preliminarily determines that the following weighted-average dumping margins exist:

Exporter | Weighted-average margin %
Minh Phu Group: ⁵ | 4.98
Minh Phu Seafood Corp., aka |
Minh Phu Seafood Corporation, aka |
Minh Phu Seafood Pte, aka |
Minh Phu Hau Giang Seafood Co., Ltd., aka |
Minh Phat Seafood Co., Ltd., aka |
Minh Qui Seafood Co., Ltd |
Soc Trang Seafood Joint Stock Company, aka | 9.75
Stapimex, aka |
Soc Trang Aquatic Products and General Import Export Company, aka |
Stapimex Soc Trans Aquatic Products and General Import Export Company, aka |
Stapmex |
BIM Seafood Joint Stock Company | 6.37
Camau Frozen Seafood Processing Import Export Corporation, aka | 6.37
Camimex, aka |
Camau Seafood Factory No. 4, aka |
Camau Seafood Factory No. 5, aka |
Camau Frozen Seafood Processing Import Export Corp., (CAMIMEX-FAC 25), aka |
Frozen Factory No. 4 |
C.P. Vietnam Corporation, aka | 6.37
C.P. Vietnam Livestock Corporation, aka |
C.P. Vietnam Livestock Company Limited, aka |
C.P. Vietnam |
Cadovimex Seafood Import-Export and Processing Joint Stock Company, aka | 6.37
Cai Doi Vam Seafood Import-Export Company, aka |
Caidoivam Seafood Company, aka |
Cadovimex-Vietnam, aka |
Cadovimex |
Cafatex Fishery Joint Stock Corporation, aka Cafatex Corporation, aka | 6.37
Cafatex Corp., aka |
Cafatex, aka |
Taydo Seafood Enterprise, aka |
Xi Nghiep Che Bien Thuy Suc San Xuat Kau Cantho |
Camau Seafood Processing and Service Joint Stock Company | 6.37
Can Tho Import Export Fishery Limited Company, aka | 6.37
CAFISH |
Coastal Fisheries Development Corporation, aka | 6.37
COFIDEC, aka |
Coastal Fisheries Development Corp., aka |
Coastal Fisheries Development Co., aka |
Coastal Fisheries Development |
Cuu Long Seaproducts Company, aka | 6.37
Cuu Long Seaproducts Limited, aka |
Cuulong Seapro aka |
Cuu Long Seapro |
Danang Seaproducts Import Export Corporation, aka | 6.37
Danang Sea Products Import Export Corporation, aka |
Tho Quang Seafood Processing & Export Company, aka |
Tho Quang Seafood Processing and Export Company, aka |
Tho Quang, aka |
Tho Quang Co., aka |
Seaprodex Danang |
Gallant Ocean (Vietnam) Co., Ltd | 6.37
Hai Viet Corporation | 6.37
Investment Commerce Fisheries Corporation, aka | 6.37
Investment Commerce Fisheries Corp., aka |
Investment Commerce Fisheries, aka |
Incomfish, aka |
Incomfish Corp., aka |
Incomfish Corporation |
Kim Anh Company Limited, aka | 6.37
Kim Anh Co., Ltd |
Minh Hai Export Frozen Seafood Processing Joint-Stock Company, aka | 6.37
Minh Hai Jostoco, aka |
Minh Hai Joint-Stock Seafoods Processing Company, aka | 6.37
Seaprodex Minh Hai, aka |
Sea Minh Hai, aka |
Seaprodex Min Hai, aka |
Seaprodex Minh Hai-Factory No. 78, aka |
Seaprodex Minh Hai (Minh Hai Joint Stock Seafoods Processing Co.), aka |
Seaprodex Minh Hai (Workshop 1), aka |
Seaprodex Minh Hai Factory No. 69 |
Minh Hai Sea Products Import Export Company, aka | 6.37
Ca Mau Seafood Joint Stock Company, aka |
Seaprimexco Vietnam aka |
Seaprimexco aka |
Minh Hai Seaproducts Co., Ltd |
Nha Trang Fisheries Joint Stock Company, aka | 6.37
Nha Trang Fisco aka |
Nhatrang Fisheries Joint Stock Company, aka |
Nhatrang Fisco, aka |
Nha Trang Fisheries, Joint Stock |
Nha Trang Seafoods: ⁶ | 6.37
Nha Trang Seaproducts Company, aka |
Nha Trang Seafoods, aka |
NT Seafoods Corporation, aka |
NT Seafoods, aka |
Nha Trang Seafoods—F.89 Joint Stock Company, aka |
Nha Trang Seafoods—F.89, aka |
NTSF Seafoods Joint Stock Company, aka |
NTSF Seafoods |
Phu Cuong Jostoco Seafood Corporation, aka | 6.37
Phu Cuong Seafood Processing and Import-Export Co., Ltd., aka |
Phu Cuong Seafood Processing and Import Export Company Limited, aka |
Phu Cuong Jostoco Seafood Corp |
Phuong Nam Foodstuff Corp., aka | 6.37
Phuong Nam Co., Ltd |
Quoc Viet Seaproducts Processing Trading and Import-Export Co., Ltd | 6.37
Sao Ta Foods Joint Stock Company, aka | 6.37
Fimex VN aka |
Sao Ta Seafood Factory aka |
Saota Seafood Factory |
Thong Thuan Company Limited, aka | 6.37
Cong Ty Tnhh Thong Thuan |
Thuan Phuoc Seafoods and Trading Corporation, aka | 6.37
Thuan Phuoc Corp., aka |
Frozen Seafoods Factory No. 32, aka |
Seafoods and Foodstuff Factory, aka |
Seafoods and Foodstuff Factory Vietnam, aka |
My Son Seafoods Factory |
UTXI Aquatic Products Processing Corporation, aka | 6.37
UT XI Aquatic Products Processing Corporation, aka |
UTXI Aquatic Products Processing Company, aka |
UT XI Aquatic Products Processing Company, aka |
UTXI Co., Ltd., aka |
UTXI, aka |
UTXICO, aka |
Hoang Phuong Seafood Factory, aka |
Hoang Phong Seafood Factory |
Viet Foods Co., Ltd., aka | 6.37
Nam Hai Foodstuff and Export Company Ltd |
Vietnam Clean Seafood Corporation, aka | 6.37
Vina Cleanfood |
Viet Hai Seafood Co., Ltd., aka | 6.37
Vietnam Fish One Co., Ltd., aka |
Fish One |
Viet I-Mei Frozen Foods Co., Ltd | 6.37
Vietnam-wide Entity | 25.76

Disclosure and Public Comment

The Department will disclose the calculations used in our analysis to parties in this review within five days of the date of publication of this notice. Interested parties may submit written comments in the form of case briefs within 30 days of publication of the preliminary results and rebuttal comments in the form of rebuttal briefs within five days after the time limit for filing case briefs.⁷ Rebuttal briefs must be limited to issues raised in the case briefs.⁸ Parties who submit arguments are requested to submit with the argument: (1) a statement of the issue; (2) a brief summary of the argument; and (3) a table of authorities.⁹

⁵ In AR6 VN Shrimp, the Department found the companies comprising the Minh Phu Group are a single entity and, because there have been no changes to the facts which supported this determination since the sixth administrative review, we continue to find these companies to be part of a single entity. Therefore, we will assign this rate to the companies in the single entity. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012) (“AR6 VN Shrimp”).

⁶ In AR5 VN Shrimp, the Department found the companies comprising Nha Trang Seafoods are a single entity and, because there have been no changes to the fact which supported this determination since the fifth administrative review; we continue to find these companies to be part of a single entity. Therefore, we will assign this rate to the companies in the single entity. See Certain Frozen Warmwater Shrimp From the Socialist Republic of Vietnam: Preliminary Results, Partial Rescission, and Request for Revocation, In Part, of the Fifth Administrative Review, 76 FR 12054, 12056 (March 4, 2012), unchanged in Certain Frozen Warmwater Shrimp From the Socialist Republic of Vietnam: Final Results and Final Partial Rescission of Antidumping Duty Administrative Review, 76 FR 56158 (September 12, 2011) (“AR5 VN Shrimp”).

⁷ See 19 CFR 351.309(c)(1)(ii) and 351.309(d)(1).

⁸ See 19 CFR 351.309(d)(2).

⁹ See 19 CFR 351.309(c) and (d).

Interested parties, who wish to request a hearing, or to participate if one is requested, must submit a written request to the Assistant Secretary for Enforcement and Compliance, U.S. Department of Commerce, filed electronically using IA ACCESS. An electronically filed document must be received successfully in its entirety in IA ACCESS, by 5 p.m. Eastern Time within 30 days after the date of publication of this notice.¹⁰ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing. Interested parties are invited to comment on the preliminary results of this review.

¹⁰ See 19 CFR 351.310(c).

The Department intends to issue the final results of this administrative review, including the results of our analysis of issues raised in the written comments, within 120 days of publication of these preliminary results in the Federal Register.

Assessment Rates

Upon issuance of the final results, the Department will determine, and U.S. Customs and Border Protection (“CBP”) shall assess, antidumping duties on all appropriate entries covered by this review.¹¹ The Department intends to issue assessment instructions to CBP 15 days after the publication date of the final results of this review. For any individually examined respondent whose weighted average dumping margin is above de minimis (i.e., is 0.50 percent or more) in the final results of this review, the Department will calculate importer-specific assessment rates on the basis of the ratio of the total amount of dumping calculated for the importer's examined sales and the total entered value of sales, in accordance with 19 CFR 351.212(b)(1).¹² We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. For those companies not assigned a separate rate from a prior segment of the proceeding, the Department stated that they are not separate from the Vietnam-wide entity and that the administrative review will continue for these companies.

¹¹ See 19 CFR 351.212(b).

¹² In these preliminary results, the Department applied the assessment rate calculation method adopted in Antidumping Proceedings: Calculation of the Weighted-Average Dumping Margin and Assessment Rate in Certain Antidumping Proceedings: Final Modification, 77 FR 8101 (February 14, 2012).

The Department recently announced a refinement to its assessment practice in non-market economy cases. Pursuant to this refinement in practice, for entries that were not reported in the U.S. sales databases submitted by companies individually examined during this review, the Department will instruct CBP to liquidate such entries at the Vietnam-wide rate. Additionally, if the Department determines that an exporter had no shipments of the subject merchandise, any suspended entries that entered under that exporter's case number (i.e., at that exporter's rate) will be liquidated at the Vietnam-wide rate.¹³

¹³ For a full discussion of this practice, see Non-Market Economy Antidumping Proceedings: Assessment of Antidumping Duties, 76 FR 65694 (October 24, 2011).

The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: March 18, 2014.
Paul Piquado,
Assistant Secretary for Enforcement and Compliance.

Appendix

List of Topics Discussed in the Preliminary Decision Memorandum:

1. Background

2. Respondent Selection

3. Scope of the Order

4. Preliminary Determination of No Shipments

5. Non-Market Economy Country

6. Separate Rates

7. Separate Rate Calculation

8. Vietnam-Wide Entity

9. Surrogate Country and Surrogate Value Data

10. Surrogate Country

11. Economic Comparability

12. Significant Producers of Comparable Merchandise

13. Data Availability

14. Date of Sale

15. Determination of Comparison Method

16. U.S. Price

17. Factor Valuations

18. Currency Conversion

[FR Doc. 2014-06397 Filed 3-21-14; 8:45 am]

BILLING CODE 3510-DS-P